DEPARTMENT OF COMMERCE

National Oceanic and Atmospheric Administration

[I.D. 012000A]

South Atlantic Fishery Management Council; Public Meeting

AGENCY: National Marine Fisheries Service (NMFS), National Oceanic and Atmospheric Administration (NOAA), Commerce.

ACTION: Notice of public meeting.

SUMMARY: The South Atlantic Fishery Management Council (Council) will hold a joint meeting of its Dolphin Wahoo Committee with the Gulf of Mexico Council's Mackerel Committee, and the Caribbean Council's Dolphin Wahoo Committee.

DATES: The meeting will be held on February 15, 2000, from 1:30 p.m. to 5:00 p.m., and on February 16, 2000, from 8:30 a.m. to 5:00 p.m.

ADDRESSES: The meeting will be held at the Town and Country Inn, 2008 Savannah Highway (US 17), Charleston, SC; telephone: (843) 571-1000 or 1-800-334-6660.

Council address: South Atlantic Fishery Management Council, One Southpark Circle, Suite 306; Charleston, SC 29407-4699.

FOR FURTHER INFORMATION CONTACT: Kim Iverson, Public Information Officer; telephone: (843) 571-4366; fax: (843) 769-4520; email: kim.iverson@noaa.gov.

SUPPLEMENTARY INFORMATION: The Committees will review and discuss maximum sustainable yield and overfishing definitions for the dolphin and wahoo species; review general management measures and regional management measures contained in the public hearing draft of the fishery management plan (FMP) for dolphin and wahoo; discuss proposed highly migratory species pelagic longline closures, and revise both the general and regional measures for the dolphin and wahoo FMP.

Although non-emergency issues not contained in this agenda may come before the Council for discussion, those issues may not be the subject of formal action during these meetings. Action will be restricted to those issues specifically identified in the notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to the Council office (see ADDRESSES) by February 11, 2000.

Dated: January 27, 2000.
Bruce C. Morehead,
Acting Director, Office of Sustainable Fisheries, National Marine Fisheries Service.

[FR Doc. 00-2130 Filed 1-31-00; 8:45 am]

BILLING CODE 3510-22-F